COMMODITY FUTURES TRADING COMMISSION

Technology Advisory Committee Meeting

The Commodity Futures Trading Commission's (“Commission”) Technology Advisory Committee will conduct a meeting on Wednesday, July 14, 2010, beginning at 1 p.m. The meeting will be convened in the lobby-level Hearing Room at the Commission's Headquarters at Three Lafayette Centre, 1155 21st Street, NW., Washington, DC 20581. The meeting is open to the public. Members of the public also can view the meeting by webcast through a link on the Commission's Web site, http://www.cftc.gov.

This will be the first meeting of the reestablished Technology Advisory Committee, which will inform the Commission of technological issues and developments affecting the futures markets and, as needed, recommend action by the Commission. The meeting will be chaired by Commissioner Scott D. O'Malia, who is Chairman of the Technology Advisory Committee.

The agenda will consist of the following:

• Call to Order and Introductions

• Topics of Interest: Technological Trading in the Markets, High Frequency Trading, and Managing the Risk of Direct Access Trading

• Discussion of Future Meetings

• Adjournment

Any member of the public who wishes to file a written statement with the committee should mail a copy of the statement to the attention of: Technology Advisory Committee, Commodity Futures Trading Commission, Three Lafayette Centre, 1155 21st Street, NW., Washington, DC 20581, before the meeting. Electronic statements may be submitted to techadvisory@cftc.gov.

For further information concerning this meeting, please contact Stephen Humenik, Designated Federal Officer, Technology Advisory Committee, at (202) 418-5314.

Issued by the Commission in Washington, DC, on June 25, 2010.
David A. Stawick,
Secretary of the Commission.

[FR Doc. 2010-16081 Filed 6-30-10; 8:45 am]

BILLING CODE 6351-01-P